CONSUMER PRODUCT SAFETY COMMISSION

Petitions Requesting Standards, Labeling, and Identification Tags for Mattresses

AGENCY: Consumer Product Safety Commission.

ACTION: Notice.

SUMMARY: The Commission has received petitions (FP 00-1, FP 00-2, FP 00-3 and FP 00-4) requesting that the Commission issue performance standards and labeling requirements to address the flammability of mattresses. The petitioner also requests that the Commission require a permanent tag stating the mattress's manufacturer and other identifying information. The Commission solicits written comments concerning the petitions.

DATES: The Office of the Secretary must receive comments on the petitions by August 11, 2000.

ADDRESSES: Comments, preferably in five copies, on the petitions should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petitions FP 00-1 through FP 00-4, Petitions on Mattress Flammability.” Copies of the petitions are available for inspection at the Commission's Public Reading Room, Room 419, 4330 East-West Highway, Bethesda, Maryland.

FOR FURTHER INFORMATION CONTACT: Rockelle Hammond, Office of the Secretary, Consumer Product Safety Commission, Washington, D.C. 20207; telephone (301) 504-0800, ext. 1232.

SUPPLEMENTARY INFORMATION: The Commission has received correspondence from Whitney A. Davis, director of the Children's Coalition for Fire-Safe Mattresses, requesting that the Commission take various actions concerning mattress flammability. The Commission is docketing as petitions his requests for rules requiring: (1) An open flame standard similar to the full-scale test set forth in California Technical Bulletin 129; (2) an open flame standard similar to the component test set forth in British Standard 5852; (3) a warning label for flammable mattresses; and (4) a permanent mattress identification tag attached to the innerspring of the mattress. The petitioner focuses primarily on the role polyurethane foam plays in mattress fires. He notes that the Commission's existing mattress flammability standard only addresses cigarette ignition; yet childplay with open-flame sources causes nearly two-thirds of mattress fires. He argues that with polyurethane foam mattresses, fires have become increasingly more deadly than with cotton batting mattresses due to increased smoke generation, heat production and flame spread. With regard to labels, he notes that polyurethane foam manufacturers provide warnings to mattress manufacturers, but these warnings are not passed on to the consumer. With regard to an identification tag, the petitioner argues that such a tag would help to identify mattresses involved in fires because often only the innerspring unit remains after a mattress fire. The Commission is docketing these petitions under provisions of the Flammable Fabrics Act, 15 U.S.C. 1191-1204.

Interested parties may obtain copies of the petitions by writing or calling the Office of the Secretary, Consumer Product Safety Commission, Washington, DC 20207; telephone (301) 504-0800. Copies of the petitions are also available for inspection from 8:30 a.m. to 5 p.m., Monday through Friday, in the Commission's Public Reading Room, Room 419, 4330 East-West Highway, Bethesda, Maryland.

Dated: June 6, 2000.
Sadye E. Dunn,
Secretary, Consumer Product Safety Commission.

[FR Doc. 00-14696 Filed 6-9-00; 8:45 am]

BILLING CODE 6355-01-P